DEPARTMENT OF COMMERCE

International Trade Administration

[A-583-841]

Polyvinyl Alcohol From Taiwan: Correction to Notice of Opportunity To Request Administrative Review

AGENCY: Import Administration, International Trade Administration, Department of Commerce.

FOR FURTHER INFORMATION CONTACT: Dustin Ross, AD/CVD Operations, Office 1, Import Administration, International Trade Administration, U.S. Department of Commerce, 14th Street and Constitution Avenue NW., Washington, DC 20230; telephone: (202) 482-0747.

SUPPLEMENTARY INFORMATION: On March 1, 2012, the Department of Commerce (the Department) published its opportunity to request administrative review of the antidumping duty order on polyvinyl alcohol from Taiwan. See Antidumping or Countervailing Duty Order, Finding, or Suspended Investigation; Opportunity To Request Administrative Review, 77 FR 12559 (March 1, 2012). Subsequent to this publication, we identified an inadvertent error. Specifically, the period of review was incorrect. The correct period of review is 09/13/2010-02/29/2012 rather than 09/13/2011-02/29/2012. This notice serves as a correction.

Dated: March 2, 2012.
Christian Marsh,
Deputy Assistant Secretary for Antidumping and Countervailing Duty Operations.

[FR Doc. 2012-5793 Filed 3-8-12; 8:45 am]

BILLING CODE 3510-DS-P